DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Hao Wang, M.D., Ph.D., Western University—Canada (formerly University of Western Ontario): Based on the report of an investigation conducted by Western University—Canada (WU) and ORI's subsequent oversight analysis, ORI found that Dr. Hao Wang, former Associate Professor of Surgery and Pathology, Schulich School of Medicine and Dentistry, WU, engaged in research misconduct in research supported by National Institute of Allergy and Infectious Diseases (NIAID), National Institutes of Health (NIH), subaward 0016244 from Prime Award U01 AI074676 to the University of Pittsburgh.

ORI found that Respondent engaged in research misconduct by falsifying data that were included in:

• An abstract and poster presentation for the 2011 American Transplant Congress—Abstract [1537.5]: Wang, H., Baroja, M., Lan, Z., Arp, J., Lin, W., Relmann, K., Garcia, B., Jevnikar, A., & Rothstein, D. “Combination of Novel Anti-CD45RB and Anti-CD40 Chimeric Antibodies Proglons Renal Allograft Survival in Cynomolgus Monkeys.”

Specifically, ORI found that the Respondent falsified the status of two animals as successfully treated renal allograft recipients in a 2011 American Transplant Congress abstract and meeting presentation and in false representations to the project principal investigators and colleagues. Respondent falsely claimed long term survival, normal serum creatinine concentrations, and lack of adverse effects in two Cynomolgus monkeys treated with chimeric antibodies following bilateral nephrectomies and receipt of renal allografts, when in fact the transplant surgery had failed and the animals' survival was due to a native kidney that was left in place in each animal. Respondent also falsified or failed to correct known falsifications (identifying the two monkeys as transplant recipients) in numerous clinical records, including anesthesia records, progress, notes, treatment records, and clinical laboratory reports.

It is expressly agreed that while Respondent asserts that there are extenuating factors for his actions, Respondent agrees to enter into the Agreement because contesting the findings would cause him undue financial hardship and stress, and Respondent wishes to seek finality. Respondent also claims that based on the data obtained from the same experimental group, the removal of these two monkeys from the data would not alter the scientific conclusion.

Dr. Wang has entered into a Voluntary Settlement Agreement and has voluntarily agreed for a period of three (3) years, beginning on October 22, 2013:

(1) To have his research supervised; Respondent agreed that prior to the submission of an application for U.S. Public Health Service (PHS) support for a research project on which the Respondent's participation is proposed and prior to Respondent's participation in any capacity on PHS-supported research, Respondent shall ensure that a plan for supervision of his duties is submitted to ORI for approval; the supervision plan must be designed to ensure the scientific integrity of Respondent's research contribution; Respondent agreed that he shall not participate in any PHS-supported research until such a supervision plan is submitted to and approved by ORI; Respondent agreed to maintain responsibility for compliance with the agreed-upon supervision plan;

(2) that any institution employing him shall submit, in conjunction with each application for PHS funds, or report, manuscript, or abstract involving PHS-supported research in which Respondent is involved, a certification to ORI that the data provided by Respondent are based on actual experiments or are otherwise legitimately derived, that the data, procedures, and methodology are accurately reported in the application, report, manuscript, or abstract, and that the text in such submission is his own or properly cites the source of copied language and ideas; and

(3) to exclude himself voluntarily from serving in any advisory capacity to PHS including, but not limited to, service on any PHS advisory committee, board, and/or peer review committee, or as a consultant.

FOR FURTHER INFORMATION CONTACT: Director, Office of Research Integrity, 1101 Wootton Parkway, Suite 750, Rockville, MD 20852, (240) 453-8800.

David E. Wright,
Director, Office of Research Integrity.

[FR Doc. 2013-26991 Filed 11-8-13; 8:45 am]

BILLING CODE 4150-31-P